DEPARTMENT OF DEFENSE

Office of the Secretary

Postponement of the Defense Finance and Accounting Service Board of Advisors

AGENCY: Department of Defense, Office of the Under Secretary of Defense (Comptroller).

ACTION: Notice of postponement of April 10, 2001 meeting.

SUMMARY: This notice sets forth the postponement of the first meeting of the Defense Finance and Accounting Service (DFAS) Board of Advisors originally scheduled for Tuesday, April 10, 2001 at the Crystal City Marriott, Salon D, Potomac Ballroom, 1999 Jefferson Davis Highway, Arlington, VA. This meeting will be rescheduled at a later date, and published in the Federal Register.

DATES: Tuesday, April 10, 2001.

ADDRESSES: Crystal City Marriott, Salon D, Potomac Ballroom, 1999 Jefferson Davis Highway, Arlington, VA 22202.

FOR FURTHER INFORMATION CONTACT: Contact Ms. Codie Smith, Resource Management, DFAS, Crystal Mall 3 (Room 206) 1931 Jefferson Davis Highway, Arlington, VA 22240. Telephone (703) 607-1162.

Dated: April 6, 2001.
L.M. Bynum,
Alternate OSD Federal Register Liaison Officer, Department of Defense.

[FR Doc. 01-9133 Filed 4-12-01; 8:45 am]

BILLING CODE 5001-10-M